DEPARTMENT OF HEALTH AND HUMAN SERVICES

Office of Inspector General

Program Exclusions: September 2001

AGENCY: Office of Inspector General, HHS.

ACTION: Notice of program exclusions.

During the month of September 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject City, State | Effective date
PROGRAM-RELATED CONVICTIONS
Aragones, Concepcion N | 10/18/2001
Newmarket, NH
Brocuglio, Steven J | 10/18/2001
Devens, MA
Butt, Atiq Amad | 10/18/2001
Elizabeth, NJ
Carlton, Edward D | 10/18/2001
Gainesville, VA
Columbia Management Cos, Inc | 07/01/2001
Nashville, TN
Connell, Debra A | 10/18/2001
Lancaster, OH
Covone, Dominick | 10/18/2001
Fort Dix, NJ
Cragen, Kenneth Russell | 10/18/2001
Los Angeles, CA
Ekpo, Asuquo Eyo | 10/18/2001
Sugarland, TX
Espinoza, Maria Aura | 10/18/2001
Southgate, CA
Fenster, Robert H | 10/18/2001
Denver, CO
Galstyan, Arutyun | 10/18/2001
Glendale, CA
Gevorkyan, Arman | 10/18/2001
North Hollywood, CA
Glass, Ted Alan | 10/18/2001
Fredericksburg, VA
Griffin, Brian Michael | 10/18/2001
Shatleigh, ME
Grigoryan, Manouk | 10/18/2001
Los Angeles, CA
Grossman, Gary | 10/18/2001
Dix Hills, NY
Guerrero, Marta | 10/18/2001
Miami, FL
Gutierrez, Orlando | 10/18/2001
Southgate, CA
Hardister, Earnest Richard | 10/18/2001
Boise, ID
Hertz, Bradley | 10/18/2001
Miami, FL
Hicks, Ingrid D | 10/18/2001
Union Grove, WI
Johnson, Lucy Young | 10/18/2001
Maplewood, MN
Keating, Janadean | 10/18/2001
Salt Lake City, UT
Keo, Channy | 10/18/2001
Long Beach, CA
Kessler, James M | 10/18/2001
Lutherville, MD
Khozak, Elizabeth A | 10/18/2001
Manchester, NH
Kuyumdzhyan, Armen | 10/18/2001
Los Angeles, CA
Lagasse, Joy A | 10/18/2001
South Casco, ME
Larson, Jeannine C | 10/18/2001
Portland, ME
Leach, Debra | 10/18/2001
Danbury, CT
Lee, Salvacion | 10/18/2001
Bell Canyon, CA
Leiti, John | 10/18/2001
Roswell, GA
Levias, Percy L | 10/18/2001
Starks, LA
Linscott, Terry L | 10/18/2001
Alderson, WV
Lovett, Gareth | 10/18/2001
Marietta, GA
Lyall, Chelsea Damaris | 10/18/2001
Durango, CO
Maury, Maricela | 10/18/2001
Surfside, FL
McKeown, James Lee Jr | 10/18/2001
Clearwater, FL
Men, Yen | 10/18/2001
Kent, WA
Miller, Nival Rizk | 10/18/2001
Tuscaloosa, AL
Mkhitaryan, Ashot | 10/18/2001
Van Nuys, CA
Munguia, Carlos | 10/18/2001
Pinkerington, OH
Nguyen, Ly Quang | 10/18/2001
Escondido, CA
Oilschlager, Gerald Albert | 10/18/2001
Long Beach, CA
Pacher, Catherine Jean | 10/18/2001
Gulfport, MS
Pak, John Won Chai | 10/18/2001
Fresno, CA
Pakhanyan, Hakob | 10/18/2001
Van Nuys, CA
Paris, Allen Lee | 10/18/2001
Altanta, GA
Peck, Christopher J | 10/18/2001
Kensington, CT
Petrosyan, Karapet | 10/18/2001
Burbank, CA
Pharmacare, Inc | 10/18/2001
Lutherville, MD
Reddick, Labrenda Jacqueline | 10/18/2001
Detriot, MI
Reed, Tracy Lanell | 10/18/2001
Tulsa, OK
Riverview Nursing Centre, Inc | 10/18/2001
Baltimore, MD
Rubin, Daniel | 10/18/2001
Warwick, NY
Ruiz, Rolando Jose | 10/18/2001
Southgate, CA
Sadatrafiei, Mohammad R | 10/18/2001
Brockton, MA
Saing, Chhaylee Soy | 10/18/2001
Atwater, CA
Shirley Mastic Pharmacy, Inc | 10/18/2001
Shirley, NY
Silbaugh, Theresa | 10/18/2001
Chicopee, MA
Snyder, Alfred | 10/18/2001
Lawrence, NY
Thetford, Nancy | 10/18/2001
Bryan, TX
Thibodeau, Patrick | 10/18/2001
Ray Brook, NY
Tibbitts, A Jeffrey | 10/18/2001
W Hartford, CT
Torosian, Rouben | 10/18/2001
Los Angeles, CA
Tyler, John W | 10/18/2001
Ray Brook, NY
W Alan Racette, D D S, M S, PC | 10/18/2001
Lansing, MI
Webster, Anthony F | 10/18/2001
Ray Brook, NY
Wolfe, Dana L | 10/18/2001
Alderson, WV
Wright, James B | 10/18/2001
Caryville, TN
FELONY CONVICTION FOR HEALTH CARE
Batchelder, Annette J | 10/18/2001
Loudon, NH
Cantu, Estefana Maria | 10/18/2001
Mathis, TX
Chasse, John P | 10/18/2001
Minersville, PA
Donahoe, Donald R | 10/18/2001
Milford, CT
Dubowski, Walter | 10/18/2001
Monterey, CA
Glomah, Tabla Barbor | 10/18/2001
West Covina, CA
Mestetsky, Ilya Gregory | 10/18/2001
Valley Village, CA
Moore, Shomia Shautia | 10/18/2001
San Diego, CA
Murray, Nichole M | 10/18/2001
Springfield, VT
Racette, Wendall Alan | 10/18/2001
Lansing, MI
Smith, Sabrina Anne | 10/18/2001
Detroit, MI
Weisbrod, Earl Bruce | 10/18/2001
Paradise Valley, AZ
FELONY CONTROL SUBSTANCE CONVICTION
Corzine, Kendra S Childress | 10/18/2001
Belknap, IL
Courtney, Joan Fazio | 10/18/2001
Venetia, PA
Davis, Royanna Mae | 10/18/2001
Cincinnati, OH
Floyd, Thomas P | 10/18/2001
Plainfield, MI
Gunnell, Shirley Ann | 10/18/2001
Drift, KY
Poindexter, James Willie | 10/18/2001
Houston, TX
Potter, Mark C | 10/18/2001
Lewisburg, PA
Runnels, Ann Marie | 10/18/2001
Mamon, LA
Stanton, Francis Xavier, JR | 10/18/2001
La Jolla, CA
Thompson, Ricardo D | 10/18/2001
Oklahoma City, OK
Weber, Carolyn J | 10/18/2001
Pittsburgh, PA
PATIENT ABUSE/NEGLECT CONVICTIONS
Ada, Dohnis I | 10/18/2001
Mt Pleasant, IA
Allen, June | 10/18/2001
Victor, NY
Alter, Robert John | 10/18/2001
St Louis, MI
Ancino, Elena Buendia | 10/18/2001
Palmdale, CA
Baker, Edith Renee | 10/18/2001
Richmond, VA
Bangura, Fatima | 10/18/2001
Columbus, OH
Bermudez, Janet | 10/18/2001
Newhall, CA
Broussard, Ned E | 10/18/2001
Exeter, NH
Burns, Katrina | 10/18/2001
Jackson, MS
Charbonneau, Robert | 10/18/2001
Sioux Falls, SD
Criger, Christina Ann | 10/18/2001
Denver, CO
Cruz, Joyce | 10/18/2001
Kaplan, LA
Dalton, Del B | 10/18/2001
San Diego, CA
Dodson, William Henry | 10/18/2001
Charleston, WV
Edwards, McKinsey Lee | 10/18/2001
Glenmora, LA
Etherington, Woods Jr | 10/18/2001
Wilmington, DE
Freeman, Katherine N | 10/18/2001
Waynesboro, PA
Gabrinowicz, Adam James | 10/18/2001
Mesa, AZ
Gilbert, Kristen H | 10/18/2001
Fort Worth, TX
Hagger, Charles Ray | 10/18/2001
Cottonport, LA
Harter, Charlynne S | 10/18/2001
Ilion, NY
Johnson, Sadie | 10/18/2001
Alexandria, LA
Joyner, Demetrius | 10/18/2001
Wilmington, DE
Kemmer, Richard C | 10/18/2001
Sacramento, CA
Klosterman, Michael Justin | 10/18/2001
Loveland, OH
McGill, Jeri | 10/18/2001
Heidelberg, MS
Merchant, David L | 10/18/2001
W Lebanon, NH
Minks, Rebecca L | 10/18/2001
Phoenix, AZ
Moore, Moses | 10/18/2001
Hutchinson, KS
Morell, James A | 10/18/2001
Easton, PA
Nielsen, Teresa Rae | 10/18/2001
Sterling, CO
Olivas, Rafael A | 10/18/2001
Tucson, AZ
Peak, Sun O | 10/18/2001
Olympia, WA
Phillips, Patricia A | 10/18/2001
Baltimore, MD
Reaster-Glover, Sharmane B | 10/18/2001
Columbia, SC
Rivera, Edgar Humberto Robles | 10/18/2001
W Valley City, UT
Rodriguez, Julia | 10/18/2001
Muncy, PA
Rominger, Kristina | 10/18/2001
Hattiesburg, MS
Russell, Victoria Mayo | 10/18/2001
Miami, FL
Scarbrough, Joyce Marie | 10/18/2001
Detroit, MI
Shelton, Mary Lou | 10/18/2001
Apple Valley, CA
Showalter, Anna Marie | 10/18/2001
Lorain, OH
Spaulding, Paul E | 10/18/2001
Augusta, WV
Thacker, Frances Conner | 10/18/2001
Amelia Courthouse, VA
Ward, Adrian Darryl | 10/18/2001
Richmond, VA
CONVICTION FOR HEALTH CARE FRAUD
Everman, Keith Michael | 10/18/2001
Diamondhead, MS
Phelps, Brenda Lee | 10/18/2001
Waverly, IA
Reuther, Mary Elizabeth | 10/18/2001
Prescott, MI
CONTROLLED SUBSTANCE CONVICTIONS
Miller, Vicki Jean | 10/18/2001
Fort Wayne, IN
Whipkey, Carla T | 10/18/2001
Murrysville, PA
LICENSE REVOCATION/SUSPENSION/SURRENDERED
Alexander, William | 10/18/2001
Tiburon, CA
Allen, Kristine M | 10/18/2001
Geneva, NY
Andersen, Michelle | 10/18/2001
Salt Lake City, UT
Avila, Diane M | 10/18/2001
Hill, NH
Bacon, Marybeth | 10/18/2001
Robbinsdale, MN
Bair, Holly | 10/18/2001
Richmond, UT
Baker, Virgie “Gemma” | 10/18/2001
Louisville, CO
Baker, Leon Lloyd | 10/18/2001
Waterloo, IA
Baker, Denise | 10/18/2001
New Orleans, LA
Ball, Teresa J | 10/18/2001
Aurora, CO
Ball, Charles B | 10/18/2001
Redondo Beach, CA
Bashier-Elahi, Abbas | 10/18/2001
Vienna, VA
Bayard, Sara Elaine | 10/18/2001
Lewisville, TX
Belliveau, Dana A | 10/18/2001
Killingsworth, CT
Bennett, Paula Ann | 10/18/2001
Rockwall, TX
Besack, Debra | 10/18/2001
Bristol, PA
Billew, Sheila | 10/18/2001
New Orleans, LA
Bobo, Susan A | 10/18/2001
Colorado Springs, CO
Bogenschutz, Elizabeth A Rasp | 10/18/2001
Louisville, KY
Bourbonniere, Debra Kay | 10/18/2001
Duluth, MN
Bowers, Elizabeth M | 10/18/2001
Taylors, SC
Branch, Cheryl Jones | 10/18/2001
Philadelphia, PA
Brooks, Cynthia Louise | 10/18/2001
Minneapolis, MN
Brown, Floy Watkins | 10/18/2001
Dawson Springs, KY
Bunton, Aprille Dawn | 10/18/2001
Charleston, SC
Burch, Yvonne N Jarrett | 10/18/2001
Owensboro, KY
Burgett-Clayton, Michelle | 10/18/2001
Surprise, AZ
Byrd, Peggy S | 10/18/2001
San Angelo, TX
Caldwell, Kathryn J | 10/18/2001
Tucson, AZ
Carroll, Sandra Jean | 10/18/2001
St Paul, MN
Caruthers, Christopher A | 10/18/2001
Victorville, CA
Cast, Amy M | 10/18/2001
Frederickburg, VA
Caulkins, Robert M | 10/18/2001
Shrewsbury, MA
Cenac, Kellie | 10/18/2001
Bourg, LA
Childers, Clarence David | 10/18/2001
Beggs, OK
Christensen, Cynthia | 10/18/2001
Hazlet, NJ
Christofferson, Terry Lyle | 10/18/2001
Chico, CA
Christopherson, Janice Renee | 10/18/2001
San Jose, CA
Clairmont, Deborah A | 10/18/2001
Meeker, CO
Cole, Sheila Marie | 10/18/2001
Oklahoma, OK
Combs, Brenda K Cook | 10/18/2001
Ferguson, KY
Connolly, Barbara Jean | 10/18/2001
Rochester, MN
Constantino, Marie | 10/18/2001
Roselle, NJ
Cowsar, Sheila | 10/18/2001
Benton, LA
Craven, Carla Louise | 10/18/2001
Minnetonka, MN
Crotts, Krystal A | 10/18/2001
Ft Dodge, IA
Culp, Mary Gail | 10/18/2001
Fort Worth, TX
Daley, Rita E | 10/18/2001
Watervliet, NY
De Monterice, Anu | 10/18/2001
Cotati, CA
Deal, Kim Gloria | 10/18/2001
Waterbury, CT
Dean, Gayle J | 10/18/2001
Council Bluffs, IA
Dearth, Donna Elaine | 10/18/2001
Newport, RI
Del Pozzo, Phillip Vincent | 10/20/2001
San Francisco, CA
Dinelli, Joseph | 10/18/2001
Scottsdale, AZ
Dinville, Joanne M | 10/18/2001
Ankeny, IA
Domingue, Carmen | 10/18/2001
Plaquemine, LA
Drake, Susan E | 10/18/2001
Pilot Mound, IA
Drennon, Catherine Claire | 10/18/2001
Cedar, MN
Dyke, Barbara W | 10/18/2001
Orford, NH
Eavens, Linda | 10/18/2001
Hamden, CT
Eschle, Roseanne | 10/18/2001
Mendota Hgts, MN
Fiegenschuh, William Harold | 10/18/2001
Alliance, OH
Fitzpatrick, Jennifer M | 10/18/2001
Manchester, NH
Forni, Michael D | 10/18/2001
Ware, MA
Foster, Heather M | 10/18/2001
Security, CO
Foster, Craig Douglas | 10/18/2001
Sacramento, CA
Fox, Bridget Carol Stubbs | 10/18/2001
Richmond, KY
Fox, Nelda B | 10/18/2001
Orem, UT
Frasier, Kelly L | 10/18/2001
Schenectady, NY
Frost, Ronald George | 10/18/2001
El Paso, TX
Garner, Lowell | 10/18/2001
Ithaca, NY
Garver, Jo Ann Jorgenson | 10/18/2001
Tempe, AZ
Gauthe, David | 10/18/2001
Jefferson, La
Gerhardt, Nancy | 10/18/2001
Denville, NJ
Gilpin, Patricia A | 10/18/2001
Miami, FL
Giltz, Julie Jeanine | 10/18/2001
Appomattox, VA
Goldstein, Lori L | 10/18/2001
E Northport, NY
Grayson, Greta | 10/18/2001
Metairie, La
Groll, Sherry L | 10/18/2001
Randolph, UT
Hadley, Russell L | 10/18/2001
Amarillo, TX
Hager, Leslie W | 10/18/2001
W Covina, CA
Hall, Anna M | 10/18/2001
Wayne, NJ
Hanson, Patricia Ann | 10/18/2001
Hayfield, MN
Hauberg, Virginia Lynn | 10/18/2001
Blaine, MN
Hawkins, Karen | 10/18/2001
Oakland, CA
Hays, Peter M | 10/18/2001
Warren, VT
Heming, Joyce Snyder | 10/18/2001
Boxwell, PA
Hicks, James Thomas | 10/18/2001
Oakbrook Ter, IL
Hingston, Elizabeth J | 10/18/2001
Beverly, MA
Hirsch, Michael Alan | 10/18/2001
Davis, CA
Holsey, Martha B | 10/18/2001
Denver, CO
Hosey, Jennifer Garlick | 10/18/2001
Christiansburg, VA
Hovland, James S | 10/18/2001
Waynesboro, VA
Hrinchuk-Hurley, Diane M | 10/18/2001
Londonderry, NH
Hull, Tyrone Leroy | 10/18/2001
Chicago, IL
Irwin, Tiara M | 10/18/2001
Hibbing, MN
Isaacson, Judy Lynn | 10/18/2001
Fort Myers, FL
Jensen, Vicki Arlene | 10/18/2001
Pocatello, ID
Johnson, Robert S | 10/18/2001
Palm Desert, CA
Johnson, Sandra Marie | 10/18/2001
Grand Meadow, MN
Johnson, Molly B | 10/18/2001
Spartanburg, SC
Jones, Donald Earl | 10/18/2001
Dallas, TX
Kahl, Russell Alan | 10/18/2001
Orono, ME
Kahrhoff, Julie Ellen | 10/18/2001
East Greenwich, RI
Kallina, Jacqueline C | 10/18/2001
Garwood, TX
King, Deborah | 10/18/2001
Willingboro, NJ
Klein, Barbara Jean | 10/18/2001
Clearwater, MN
Knisley, Charles Gary | 10/18/2001
Phoenix, AZ
Kotsias, Rita M | 10/18/2001
Caledonia, MN
Labruzzo, Melissa | 10/18/2001
Haughton, LA
Lange, Cynthia Gaye | 10/18/2001
Forest Lake, MN
Leger, Patricia Elizabeth | 10/18/2001
Brookeland, TX
Leveratto, Sandro | 10/18/2001
Corona, CA
Lloyd, Ginger Louise | 10/18/2001
Wichita Falls, TX
Lockett, Harvey O | 10/18/2001
Newport News, VA
Long, Karen Sue | 10/18/2001
Luling, TX
Loomis, Sandra D | 10/18/2001
New Virginia, IA
Lopa, Patricia | 10/18/2001
Branford, CT
Luzik, Michelle L | 10/18/2001
Crescent, PA
Lynch, Michael J | 10/18/2001
Bethlehem, CT
Macmaster, Duncan R | 10/18/2001
Woodbury, CT
Madson, Melissa Mae | 10/18/2001
Faribault, MN
Marshman, William Howard | 10/18/2001
Dallas, TX
Martinez, Ramiro | 10/18/2001
Orange Cove, CA
Matijevic, Ivo | 10/18/2001
Key Biscayne, FL
Maultsby, Barbara Ann | 10/18/2001
Marble Falls, TX
McAlister, John Edwards | 10/18/2001
Norman, OK
McAllister, Donald John | 10/18/2001
Bristol, CT
McAnulty, Kerry Renee | 10/18/2001
Mabelvale, AR
McCaffrey, Celia | 10/18/2001
Bayville, NJ
McCall, Scott Donald | 10/18/2001
San Juan Capistrano, CA
McCarty, Teresia Dawnette | 10/18/2001
Austin, TX
Melnyk, Hazel Ann | 10/18/2001
St Paul, MN
Mercer, Michael Blaine | 10/18/2001
Phoenix, AZ
Messenger, Beverly Ann | 10/18/2001
Irving, TX
Miller, Phillip Duane | 10/18/2001
Springfield, IL
Miller, Rebecca A | 10/18/2001
Groton, CT
Miller, Trease Ann | 10/18/2001
San Antonio, TX
Moody, Kelly Denise | 10/18/2001
Pocahontas, AR
Mooney, Patricia Anne | 10/18/2001
Palmdale, CA
Moore, Linda Louise | 10/18/2001
Joliet, IL
Morgan-Carter, Constance J | 10/18/2001
Phoenix, AZ
Morsch, Charles T | 10/18/2001
Carterville, IL
Moyer, Thomas Arthur II | 10/20/2001
Sharon, WI
Murphy, Susanne Marie | 10/18/2001
Minneapolis, MN
Nelson, Virginia Louise | 10/18/2001
Lincoln, IL
Norton, Michelle L | 10/18/2001
Security, CO
O'Donnell, Gloria J | 10/18/2001
Iowa City, IA
Ogden, Sean M | 10/18/2001
Philadelphia, PA
Orth, Debra C | 10/18/2001
Baltimore, MD
Oum, Chul On | 10/18/2001
Northridge, CA
Overstreet, Robert Edward | 10/18/2001
Westmoreland, TN
Pachol, Lisa Anne | 10/18/2001
Corona, CA
Park, Rin Andrew | 10/18/2001
Sunnyvale, CA
Pathak, Arvind K | 10/18/2001
Cumberland, MD
Patton, Michael John | 10/18/2001
El Cajon, CA
Pedersen, Craig Alan | 10/18/2001
San Diego, CA
Perez, Roman T | 10/18/2001
Denver, CO
Perretta, Frank P | 10/18/2001
Clermont, FL
Peter, David Charles | 10/18/2001
Vancouver, WA
Peters, Barbara J | 10/18/2001
Clinton, IA
Peterson, Lindsey Grady | 10/18/2001
Virginia Beach, VA
Pineda, Francesca M | 10/18/2001
New City, NY
Pinkney, Gregory W Sr | 10/18/2001
Richmond, VA
Pino, Cynthia A | 10/18/2001
Pueblo, CO
Plotts, Lisa | 10/18/2001
Oaklyn, NJ
Ponce De Leon, Carlos J | 10/18/2001
Payson, AZ
Quinlan, Kristel Dawn | 10/18/2001
Rantoul, IL
Reach, Ralph Thomas | 10/18/2001
Christiansburg, VA
Regan, Sheila A | 10/18/2001
Hudson, NH
Reynolds, Julie Morgan | 10/18/2001
Greenville, TX
Rice, James Lewis | 10/18/2001
Omaha, NE
Rikard, Candace Noel | 10/18/2001
Wichita Falls, TX
Rodriguez, Beatriz | 10/18/2001
Richland, NJ
Rodriguez, David Michael | 10/18/2001
Portola, CA
Roesch, Kris A | 10/18/2001
Troy, IL
Roger, Kevin | 10/18/2001
Lafayette, LA
Rogers, Shelia Lee | 10/18/2001
Conroe, TX
Ronan, Kathleen | 10/18/2001
Sayreville, NJ
Ruggiero, Paula E | 10/18/2001
Westville, NJ
Salsbury Oxner, Doris | 10/18/2001
Alexandria, LA
Sanderlin, Kathleen | 10/18/2001
Southampton, NJ
Sands, Michelle L | 10/18/2001
Dallas, TX
Scott, Glenn | 10/18/2001
Hackensack, NJ
Scott, Jewel L | 10/18/2001
Washington, DC
Shea, Ann M | 10/18/2001
Freehold, NJ
Simon, Barbara Jean | 10/18/2001
Corpus Christi, TX
Singh, Kuldeep | 10/18/2001
Macon, MO
Slater, Barbara A | 10/18/2001
Toms River, NJ
Smiddy, Denise Martinicky | 10/18/2001
Radcliff, KY
Smith, Karen Sue | 10/18/2001
Channelview, TX
Smith, Elizabeth Agnes | 10/18/2001
Orange, TX
Smith, Lynne Shanley | 10/18/2001
Lexington, VA
Smith, Jimmy Wayne | 10/18/2001
Hastings, OK
Smith Wheeler, Sharron L | 10/18/2001
San Antonio, TX
Steed, Katrine | 10/18/2001
Evanston, IL
Stephens, Linda Denise | 10/18/2001
Big Spring, TX
Stephens, Robin R | 10/18/2001
Ottawa, IL
Streit, Howard Lee | 10/18/2001
Bartlett, IL
Stull, Patricia J | 10/18/2001
Katy, TX
Sykes, Sheila Ann | 10/18/2001
Maryville, TN
Taylor, Marsha Lynne | 10/18/2001
Orem, UT
Tedeton, Tina Louise | 10/18/2001
Pickens, SC
Tellis, Roger Allen | 10/18/2001
San Francisco, CA
Thibodeau, Richard J | 10/18/2001
Lewiston, ME
Tom, Danny | 10/18/2001
Sunnyvale, CA
Tortis, Christina Anne | 10/18/2001
Lincoln, RI
Tosh, Cynthia Sue | 10/18/2001
E Alton, IL
Varda, Anne Elizabeth | 10/18/2001
Chisholm, MN
Varnado, Brenda | 10/18/2001
Mccomb, MS
Verdin, Kathy | 10/18/2001
Tallulah, LA
Vogel, Scott M | 10/18/2001
Glastonbury, CT
Walker, Paul Anthony | 10/18/2001
Fresno, CA
Wallis, Jodi | 10/18/2001
Forked River, NJ
Ward, Helen Louise | 10/18/2001
Arlington, TX
Waugh, Dianne L | 10/18/2001
Portland, ME
Wheat, Carl C | 10/18/2001
San Antonio, TX
Wilson, Roger Dale | 10/18/2001
Wichita Falls, TX
Wilson, Herbert Clyde II | 10/18/2001
S Houston, TX
Wilson, Patrick F | 10/18/2001
Schaumburg, IL
Withers, David B | 10/18/2001
Woodstock, Ct
Wood, Jerry Martin | 10/18/2001
Layton, UT
Young, Kelly A | 10/18/2001
York, PA
Youssef, Samir Michael | 10/18/2001
Pasadena, CA
FEDERAL/STATE EXCLUSION/SUSPENSION
Violette, Jeffrey E | 10/18/2001
Bucksport, ME
Voncanon, Carol | 10/18/2001
Stockton, MO
FRAUD/KICKBACKS
Bar-Av, Zeev | 08/06/2001
Madison, WI
Klearman, Merrill | 04/30/2001
St Louis, MO
Lancer Medical, Inc | 04/30/2001
Bala Cynwyd, PA
Midwest Continuing Care, Inc | 04/30/2001
St Louis, MO
Midwest Medical Supply Co, Inc | 04/30/2001
St Louis, MO
Morten, Daniel Joseph | 08/23/2001
Bruning, NE
Native American Health Sup Inc | 08/24/1999
Rapid City, SD
Native American Health Svc Inc | 08/24/1999
Rapid City, SD
Quigley, Michael A | 08/07/2001
Santa Rosa, CA
OWNED/CONTROLLED BY CONVICTED ENTITIES
General Cosmetic Dentistry | 10/18/2001
Glen Cove, NY
Interim Healthcare of Hollywoo | 10/18/2001
Miami, FL
Livermore Chiropractic & Welln | 10/18/2001
Livermore, CA
PD Medical Supply | 10/18/2001
Los Angeles, CA
Reason Chiropractic | 10/18/2001
Woodland Park, CO
Summit Chiropractic | 10/18/2001
Redding, CA
W G Clarks Counseling Center | 10/18/2001
Detroit, MI
Westfield Chiropractic Center | 10/18/2001
Kansas City, KS
Willow Counseling Center | 10/18/2001
Dayton, OH
DEFAULT ON HEAL LOAN
Agyeman, Kwabena O | 10/18/2001
Silver Spring, MD
Agyepong, Eva Osahene | 10/18/2001
San Dimas, CA
Albright, Elizabeth Sue | 10/18/2001
San Antonio, TX
Asuan, Senen R | 10/18/2001
Chicago, IL
Barry, Tracy L | 10/18/2001
New York, NY
Bittenbender, Robert G | 10/18/2001
Wilkes-Barre, PA
Calandros, Michael J | 10/18/2001
Point Pleasant, WV
Campo, Stephen | 10/18/2001
Avon, NY
Carlin, Susan L | 10/18/2001
San Antonio, TX
Chase, Mathew J | 10/18/2001
Plover, WI
Cho, David Kyu Won | 10/18/2001
Gilroy, CA
Davidson, Philip R | 10/18/2001
Grand Prairie, TX
Dinoff, Lee F | 10/18/2001
Griffin, GA
Edgar, John D JR | 10/18/2001
New York, NY
Fischer, Steven Anthony | 10/18/2001
Vallejo, CA
Fitzgerald, Robert N | 10/18/2001
Dundee, NY
Francis, Michael Jon | 10/18/2001
Jonesboro, GA
Freson, Frank J | 10/18/2001
Tyler, TX
Frye, Derrick O | 10/18/2001
University City, MO
Fulton, William Christopher | 10/18/2001
Oakland, CA
Galgot, Keith H | 10/18/2001
Waterbury, CT
Gilroy, Anne F | 09/05/2001
Ardmore, PA
Gray, Susan D | 10/18/2001
Portland, OR
Greenwood, Kerry Lance JR | 10/18/2001
Rockford, MI
Hashemieh-Estes, Simin | 10/18/2001
Encino, CA
Heim, Deborah M | 10/18/2001
Little Canada, MN
Heinlein, Gary M | 10/18/2001
Chesterfield, MO
Herbert, Robert F | 10/18/2001
Valencia, CA
Hernandez, Agapito B JR | 10/18/2001
McAllen, TX
Hiserodt, David William | 10/18/2001
Van Nuys, CA
Holm, Richard Nathan | 10/18/2001
Hollister, CA
Hunt, Samuel I | 10/18/2001
Deer Park, TX
IP, Stephen Clement | 10/18/2001
Irving, TX
Isaac, Herbert L II | 10/18/2001
Bloomfield Hills, MI
Jepson, Douglas Trent | 10/18/2001
Colton, CA
Johnson, Ricky | 10/18/2001
Chicago, IL
Johnson, Samuel E | 10/18/2001
Forsyth, GA
Kea, Rattana D | 10/18/2001
New York, NY
Kilgore, William P | 10/18/2001
Joplin, MO
Lamar, Fernando | 10/18/2001
Euclid, OH
Lee, Stephen J | 10/18/2001
Langhorne, PA
Leeper, Kenneth | 10/18/2001
Madison, WI
Lescht, Ira C | 10/18/2001
Pismo Beach, CA
Lund, Stevan Alan | 10/18/2001
Arlington, TX
Manual, Leanna E | 10/18/2001
Dayton, OH
Marrero, David R | 10/18/2001
Winter Haven, FL
Martin, Ron R | 10/18/2001
El Dorado, CA
Mathiak, Karen I | 10/18/2001
Griffin, GA
Medina, Jacqueline | 10/18/2001
Grandada Hills, CA
Mirrafati, Sayed Jalil | 10/18/2001
Irvine, CA
Moussaed, Emile K | 09/05/2001
Livonia, MI
Nguyen, Thomas A | 10/18/2001
Grove, OK
Packard, Richard Vandyke | 10/18/2001
Riverside, CA
Passler, Charles | 10/18/2001
Armonk, NY
Peerenboom-Grenier, Paula J | 10/18/2001
Viroqua, WI
Peguero, Daniel Amaado | 10/18/2001
Weston, FL
Perso, Anthony | 10/18/2001
Massapequa, NY
Peterson, Jon B | 10/18/2001
Saint Cloud, MN
Ramirez, Richard R | 10/18/2001
Houston, TX
Reid, Stephanie Lynn | 10/18/2001
Georgetown, TX
Rich, Kenneth E | 10/18/2001
Armonk, NY
Rima, Mark Alan | 10/18/2001
Hot Sprngs Nat'l Pk, AR
Robinson, Kalvin M | 10/18/2001
Houston, TX
Robinson, Paul Michael | 10/18/2001
Venice, CA
Rodrigues, Paul Jorge | 10/18/2001
Artesia, CA
Roesler-Sirlin, Christina | 10/18/2001
Yonkers, NY
Rogers, William Baird | 10/18/2001
Tulsa, OK
Rothman, Laura Lee | 10/18/2001
Arroyo Grande, CA
Sabatowicz, Peter Frank | 10/18/2001
Arlington, MA
Salmon, Noreen A | 10/18/2001
Oak Lawn, IL
Scow, Roger Dale Jr | 10/18/2001
Beaufort, SC
Smith, Carol A | 10/18/2001
Memphis, TN
Southerland, Rhonda K | 10/18/2001
Kirksville, MO
Staples, Joyce A | 10/18/2001
Coos Bay, OR
Tarango, Rosa M | 10/18/2001
Downey, CA
Tchakalian, Leon Jay | 10/18/2001
Sherman Oaks, CA
Thompson, Stephen P | 10/18/2001
Lansing, MI
Trevino, James G | 10/18/2001
San Antonio, TX
Veal, Ulanda Michelle | 10/18/2001
Oakland, CA
Voigt, Eric E | 10/18/2001
Hood River, OR
Walsh, Christopher J | 10/18/2001
W Chester, OH
Warner, Rick A | 10/18/2001
W Los Angeles, CA
White, Wanda M | 10/18/2001
Riverdale, GA
Wiklinski, Stephen L | 10/18/2001
Old Tappan, NJ
Williams, Ronald L | 10/18/2001
Toledo, OH
Yearous, Mark Harold | 10/18/2001
Fort Morgan, CO
Yi, Mison | 10/18/2001
Arlington Hgts, IL
OWNERS OF EXCLUDED ENTITIES
Pitts, Joseph Alexander | 10/18/2001
Detroit, MI
CIVIL MONEY PENALTY OR ASSESSMENT
Applewhite, Monica Janet | 12/18/2000
Williamsville, NY
PEER REVIEW ORGANIZATION CASES
Lehman, Thomas | 10/17/2001
Shreveport, LA

Dated: October 3, 2001.
Calvin Anderson, Jr.,
Director, Health Care Administrative Sanctions, Office of Inspector General.

[FR Doc. 01-25689 Filed 10-11-01; 8:45 am]

BILLING CODE 4150-04-P